DEPARTMENT OF HOMELAND SECURITY

Coast Guard

33 CFR Part 165

[CGD13-05-015]

RIN 1625-AA00

Safety Zones: Columbia River, Astoria, OR

AGENCY: Coast Guard, DHS.

ACTION: Notice of enforcement.

SUMMARY: The Captain of the Port, Portland, Oregon, will enforce the safety zone established for the Astoria Regatta on the waters of the Columbia River. This action is being taken to safeguard watercraft and their occupants from safety hazards associated with the display of fireworks. Entry into these safety zones is prohibited unless authorized by the Captain of the Port.

DATES: This rule will be enforced on August 13, 2005, from 9:30 p.m. to 10:30 p.m.

FOR FURTHER INFORMATION CONTACT: Petty Officer Charity Keuter, c/o Captain of the Port Portland, OR, 6767 North Basin Avenue, Portland, OR 97217 at (503) 240-2590 to obtain information concerning enforcement of this rule.

SUPPLEMENTARY INFORMATION: On July 17, 2003, the Coast Guard published a final rule (68 FR 42289) establishing regulations in 33 CFR 165.1316 to safeguard watercraft and their occupants on the waters of the Columbia River from safety hazards associated with the display of fireworks within the Area of Responsibility of the Captain of the Port, Portland, Oregon. The Coast Guard is issuing notice that the Captain of the Port, Portland, Oregon will enforce on August 13, 2005, from 9:30 p.m. to 10:30 p.m. the safety zone established on the waters of the Columbia River in the vicinity of Astoria, Oregon and published in 33 CFR 165.1316. Entry into this safety zone is prohibited unless otherwise exempted or excluded under the final rule or unless authorized by the Captain of the Port or his designee. The Captain of the Port may be assisted by other Federal, State, or local agencies in enforcing these safety zones.

Dated: May 11, 2005.
Paul D. Jewell,
Captain, U.S. Coast Guard, Captain of the Port, Portland, OR.

[FR Doc. 05-10140 Filed 5-19-05; 8:45 am]

BILLING CODE 4910-15-P